DEPARTMENT OF HOUSING AND URBAN DEVELOPMENT

[Docket No. FR-5828-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Army: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040, Washington, DC 20405, (202) 501-0084; Navy: Mr. Steve Matteo, Department of the Navy, Asset Management; Division, Naval Facilities Engineering Command, Washington Navy Yard, 1330 Patterson Ave. SW., Suite 1000, Washington, DC 20374; (202) 685-9426;

(These are not toll-free numbers.)

Dated: May 14, 2015.
Brian P. Fitzmaurice,
Director, Division of Community Assistance, Office of Special Needs Assistance Programs.

TITLE V, FEDERAL SURPLUS PROPERTY PROGRAM FEDERAL REGISTER REPORT FOR 05/22/2015

Suitable/Available Properties

Building

Missouri

Toilet, Type III, CWATER-4386

Bluff View Park Hwy AA

Piedmont MO 63957

Landholding Agency: COE

Property Number: 31201520003

Status: Underutilized

Comments: 34+ years old, 10X7; restroom/shower house; 8 mos. vacant; deterioration & decay; contact COE for more information.

Virginia

T-482

JB Myer Henerson Hall

Ft. Myer VA 22211

Landholding Agency: Army

Property Number: 21201520003

Status: Excess

Comments: off-site removal only; 8,267 sq. ft.; relocation may be difficult to size; office; 6+ months vacant; contact Army for more information

Idaho

PVT Lloyd G. McCarter USARC

1662 W. Wyoming Ave.

Hayden ID 83835

Landholding Agency: GSA

Property Number: 54201520010

Status: Excess

GSA Number: 9-D-ID-0583

Directions: Disposal Agency: GSA; Land Holding Agency: COE

Comments: 11,000 sq. ft., sits on 4.62 acres leased until 10/2046; 35+ yrs. old; land lease government use only; Army Reserve Center; vacant 20+ months; Contact GSA for more information.

Guam

6 Buildings

Navy Base Guam PSC 455, Box 152

FPO AP GU 96549

Landholding Agency: Navy

Property Number: 77201520008

Status: Underutilized

Directions: Building #275, #368-PV, #2, #210376, #100, #1801(S. Finegayan Housing Area (71 acres); Confined Disposal Facility (24 acres) (24 acres); Commissary Store (Building 275—Building size is 58,663 SF with open grass area behind facility, 25 acres); Harmon Booster Pump Station (Facility #210376, 4 acres); Waste Water Treatment Plant (Facility #1801, 16 acres); MWD PV Array (Facility #368-PV, 31 acres); Harmon Annex (Facility #2, Harmon Land Parcel 2, 4 acres); Tumon Tank Farm (Facility #100, 20 acres)

Comments: Public access denied and no alternative method to gain access without compromising National Security.

Reasons: Secured Area

South Finegayan Housing Area

Navy Base Guam, PSC 455, Box 152

FPO AP GU 96540

Landholding Agency: Navy

Property Number: 77201520009

Status: Underutilized

Comments: Public access denied and no alternative method to gain access without compromising National Security.

Reasons: Secured Area

Contained Disposal Facility

Route 1

Navy Base GU 96540

Landholding Agency: Navy

Property Number: 77201520010

Status: Unutilized

Comments: Public access denied and no alternative method to gain access without compromising National Security.

Reasons: Secured Area

Texas

Building 46 ID 620240B046

2881 F&B Road

College Station TX 77845

Landholding Agency: Agriculture

Property Number: 15201520027

Status: Unutilized

Comments: Tin roof in poor condition; ceiling falling down; exterior walls are rotten & pulling apart from the floor & roof; floor beams are rotten and unable to support the floor structure.

Reasons: Extensive deterioration

[FR Doc. 2015-12231 Filed 5-21-15; 8:45 am]

BILLING CODE 4210-67-P